DEPARTMENT OF TRANSPORTATION

Federal Aviation Administration

[Summary Notice No. PE-2002-05]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on January 24, 2002.
Donald P. Byrne,
Assistant Chief Counsel for Regulations.

Dispositions of Petitions

Docket No.: FAA-2001-9461.

Petitioner: The World, LLC dba World Balloon.

Section of 14 CFR Affected: 14 CFR 91.319(c).

Description of Relief Sought/Disposition: To permit World Balloon to operate over densely populated areas its Cameron Balloons Ltd. COW-106 balloon and Dinosaur 80 balloon (registration Nos. N457C and N457D, serial Nos. 3945 and 3324, respectively), which are certificated in the experimental exhibition category.

Denial, 01/10/2002, Exemption No. 7693.

Docket No.: FAA-2001-9792.

Petitioner: The Boeing Company.

Section of 14 CFR Affected: 14 CFR 91.319(d)(3).

Description of Relief Sought/Disposition: To permit Boeing to operate an aircraft holding an experimental certificate into or out of airports with an operating control tower without notifying the control tower of the experimental nature of the aircraft.

Denial, 01/10/2002, Exemption No. 7692.

Docket No.: FAA-2001-9942.

Petitioner: McMahon Helicopter Services, Inc.

Section of 14 CFR Affected: 14 CFR 135.411(a)(2).

Description of Relief Sought/Disposition: To permit McMahon to operate 3 Sikorsky S-58/T helicopters with passenger seating configurations of 10 to 14 seats (1) without an approved flight recorder installed in each helicopter and (2) without those helicopters being maintained under a maintenance program in §§ 135.415, 135.416, 135.417, and 135.423 through 135.443.

Denial, 01/10/2002, Exemption No. 7690.

[FR Doc. 02-2148 Filed 1-29-02; 8:45 am]

BILLING CODE 4910-13-M